DEPARTMENT OF TRANSPORTATION

Federal Aviation Administration

14 CFR Part 39

[Docket No. 2001-NM-109-AD]

RIN 2120-AA64

Airworthiness Directives; Bombardier Model DHC-8-102, -103, and -106 Airplanes; Model DHC-8-201 and -202 Airplanes; and Model DHC-8-301, -311, and -315 Airplanes

AGENCY: Federal Aviation Administration, DOT.

ACTION: Supplemental notice of proposed rulemaking; reopening of comment period.

SUMMARY: This document revises an earlier proposed airworthiness directive (AD), applicable to certain Bombardier Model DHC-8-102, -103, and -106 airplanes; Model DHC-8-201 and -202 airplanes; and Model DHC-8-301, -311, and -315 airplanes; that would have required replacement of the elevator stop bumpers of the horizontal stabilizer with new bumpers. Among other actions, this new action revises the proposed rule by incorporating revised replacement intervals for the elevator stop bumpers into the applicable airworthiness limitation. This action is necessary to prevent damage to the elevator trailing edge due to a broken or missing elevator stop bumper, which could result in jamming of the spring tab and consequent reduced controllability of the airplane. This action is intended to address the identified unsafe condition.

DATES: Comments must be received by June 27, 2003.

ADDRESSES: Submit comments in triplicate to the Federal Aviation Administration (FAA), Transport Airplane Directorate, ANM-114, Attention: Rules Docket No. 2001-NM-109-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-109-AD” in the subject line and need not be submitted in triplicate. Comments sent via the Internet as attached electronic files must be formatted in Microsoft Word 97 or 2000 or ASCII text.

The service information referenced in the proposed rule may be obtained from Bombardier, Inc., Bombardier Regional Aircraft Division, 123 Garratt Boulevard, Downsview, Ontario M3K 1Y5, Canada. This information may be examined at the FAA, Transport Airplane Directorate, 1601 Lind Avenue, SW., Renton, Washington; or at the FAA, New York Aircraft Certification Office, 10 Fifth Street, Third Floor, Valley Stream, New York.

FOR FURTHER INFORMATION CONTACT: Serge Napoleon, Aerospace Engineer, Airframe and Propulsion Branch, ANE-171, FAA, New York Aircraft Certification Office, 10 Fifth Street, Third Floor, Valley Stream, New York 11581; telephone (516) 256-7512; fax (516) 568-2716.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-109-AD.” The postcard will be date stamped and returned to the commenter.

Availability of NPRMs

Any person may obtain a copy of this NPRM by submitting a request to the FAA, Transport Airplane Directorate, ANM-114, Attention: Rules Docket No. 2001-NM-109-AD, 1601 Lind Avenue, SW., Renton, Washington 98055-4056.

Discussion

A proposal to amend part 39 of the Federal Aviation Regulations (14 CFR part 39) to add an airworthiness directive (AD), applicable to certain Bombardier Model DHC-8-102, -103, and -106 airplanes; Model DHC-8-201 and -202 airplanes; and Model DHC-8-301, -311, and -315 airplanes, was published as a notice of proposed rulemaking (NPRM) (hereafter referred to as “the original NPRM”) in the Federal Register on December 2, 2002 (67 FR 71503). The original NPRM would have required replacement of the elevator stop bumpers of the horizontal stabilizer with new bumpers. The original NPRM was prompted by a report indicating that an elevator trim problem was detected on a Model DHC-8-100 series airplane due to a broken or missing elevator stop bumper. That condition, if not corrected, could result in damage to the elevator trailing edge, which could result in jamming of the spring tab and consequent reduced controllability of the airplane.

Actions Since Issuance of Previous Proposal

Due consideration has been given to the comments received in response to the original NPRM:

Two commenters request that the service information listed in “Table—Bombardier Service Information” of paragraph (a) of the original NPRM be revised. One commenter suggests referencing the revision number of the airworthiness limitation (AWL) at which the applicable temporary revisions (TR) were incorporated into the applicable product support manual (PSM) on a permanent basis. The other commenter suggests referencing de Havilland, Inc., task cards. Both commenters state that the TRs referenced in the original NPRM have been incorporated into the PSM and no longer exist. One commenter states that incorporating the AWL will relieve operators from having to immediately request approval for an alternative method of compliance.

The FAA partially agrees. We agree with the commenters that the service information specified in the original NPRM needs to be revised. We have confirmed with both Transport Canada Civil Aviation (TCCA), which is the airworthiness authority for Canada, and the airplane manufacturer that, once TRs are incorporated into the PSM of an airplane, they are voided and no longer exist. However, we do not agree with the commenter to reference the revision number of the AWL. Neither TCCA nor we know the revision levels at which the new TRs AWL-84, AWL 2-24, and AWL 3-91 will be incorporated into the PSM.

Since the issuance of the original NPRM, TCCA issued Canadian airworthiness directive CF-2001-08R1, effective January 10, 2003 (supersedes Canadian airworthiness directive CF-2001-08 issued on February 7, 2001, which was referenced in the original NPRM), in order to assure the continued airworthiness of the affected airplanes in Canada. The Canadian airworthiness directive requires revising the Transport Canada-approved maintenance schedule by incorporating revised replacement intervals for the elevator stop bumpers into the applicable AWL per the applicable de Havilland, Inc., TRs (which reference de Havilland, Inc., Dash 8 Maintenance Task Cards 2730/22) in the following table:

Table.—Temporary Revisions
For model— | de Havilland, Inc., TR— | Dated— | Of maintenance PSM—
DHC-8-102, -103, and -106 airplanes | AWL-84 | December 20, 2002 | 1-8-7
DHC-8-201 and -202 airplanes | AWL 2-24 | December 20, 2002 | 1-82-7
DHC-8-301, -311, and -315 airplanes | AWL 3-91 | December 20, 2002 | 1-83-7

The life-limit for the elevator stop bumpers specified in these new TRs (i.e., 6,000 flight hours or 3 years, whichever occurs first) is lower than that specified in the TRs referenced in the original NPRM (i.e., 12,000 flight hours or 5 years, whichever occurs first). Therefore, we have revised this supplemental NPRM to incorporate the applicable TRs, which specify replacement intervals for the elevator stop bumpers, into the AWL section of the Instructions for Continued Airworthiness.

In addition, the Canadian airworthiness directive requires a phase-in schedule for replacement of certain elevator stop bumpers, but does not specify service information for accomplishment of the replacement. Therefore, this supplemental NPRM would require the replacement of those elevator stop bumpers per the Procedures specified in de Havilland, Inc., Dash 8 Maintenance Task Cards 2730/22, dated April 25, 2001 (for series 100, 200, and 300).

Accomplishment of the actions specified in the applicable TR and task card is intended to adequately address the identified unsafe condition.

Explanation of Changes to 14 Code of Federal Regulations (CFR) Part 39

On July 10, 2002, we issued a new version of 14 CFR part 39 (67 FR 47997, July 22, 2002), which governs our AD system. The regulation now includes material that relates to altered products, special flight permits, and alternative methods of compliance (AMOC). Because we have now included this material in part 39, only the office authorized to approve AMOCs is identified in each individual AD. Therefore, Note 1 and paragraph (c) of the original NPRM have been removed from this supplemental NPRM and paragraph (b) of the original NPRM has been revised accordingly.

Conclusion

Since the AWL change expands the scope of the original NPRM, we have determined that it is necessary to reopen the comment period to provide additional opportunity for public comment.

Interim Action

This is considered to be interim action until final action is identified, at which time we may consider further rulemaking.

Cost Impact

We estimate that 195 Bombardier Model DHC-8-102, -103, and -106 airplanes; Model DHC-8-201 and -202 airplanes; and Model DHC-8-301, -311, and -315 airplanes; of U.S. registry would be affected by this proposed AD, that it would take approximately 2 work hours per airplane to accomplish the proposed actions, and that the average labor rate is $60 per work hour. Based on these figures, the cost impact of the proposed AD on U.S. operators is estimated to be $23,400, or $120 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Bombardier, Inc. (Formerly de Havilland, Inc.): Docket 2001-NM-109-AD.

Applicability: Model DHC-8-102, -103, -106, -201, -202, -301, -311, and -315 airplanes; certificated in any category; serial numbers 003 and subsequent.

Compliance: Required as indicated, unless accomplished previously.

To prevent damage to the elevator trailing edge due to a broken or missing elevator stop bumper, which could result in jamming of the spring tab and consequent reduced controllability of the airplane, accomplish the following:

Revision of Airworthiness Limitation (AWL) Section

(a) For all airplanes: Within 30 days after the effective date of this AD, revise the AWL section of the Instructions for Continued Airworthiness by inserting a copy of the following applicable de Havilland, Inc., temporary revision into the AWL section:

Table.—Temporary Revisions.
For model— | de Havilland, Inc., TR— | Dated— | Of maintenance program support manual (PSM)—
DHC-8-102, -103, and -106 airplanes | AWL-84 | December 20, 2002 | 1-8-7
DHC-8-201 and -202 airplanes | AWL 2-24 | December 20, 2002 | 1-82-7
DHC-8-301, -311, -314, and -315 airplanes | AWL 3-91 | December 20, 2002 | 1-83-7

(b) Thereafter, except as provided in paragraphs (c) and (d) of this AD, no alternative replacement intervals may be approved for the elevator stop bumpers.

Phase-In Replacement

(c) For elevator stop bumpers that have accumulated more than 5,000 total flight hours or have more than 30 months total time-in-service as of the effective date of this AD: Within 6 months or 1,000 flight hours after the effective date of this AD, whichever occurs first, replace the left and right upper and lower elevator stop bumpers of the horizontal stabilizer with new bumpers having the same part numbers as the existing bumpers, per the Procedures specified in the applicable de Havilland, Inc., Dash 8 Maintenance Task Card 2730/22, dated April 25, 2001 (for series 100, 200, and 300). Repeat the replacement thereafter per the intervals specified in the AWL revision required by paragraph (a) of this AD.

Alternative Methods of Compliance

(d) Per 14 CFR 39.19, the Manager, New York Aircraft Certification Office, FAA, is authorized to approved alternative methods of compliance for this AD.

Note: The subject of this AD is addressed in Canadian airworthiness directive CF-2001-08R1, effective January 10, 2003.

Issued in Renton, Washington, on May 23, 2003.
Vi L. Lipski,
Manager, Transport Airplane Directorate, Aircraft Certification Service.

[FR Doc. 03-13658 Filed 5-30-03; 8:45 am]

BILLING CODE 4910-13-P